DEPARTMENT OF TRANSPORTATION

Federal Aviation Administration

14 CFR Part 73

[Docket No. FAA-2015-0264; Airspace Docket No. 15-ASO-1]

RIN 2120-AA66

Revocation of Restricted Area R-2936, West Palm Beach, FL

AGENCY: Federal Aviation Administration (FAA), DOT.

ACTION: Final rule.

SUMMARY: This action removes restricted area R-2936, West Palm Beach, FL. The using agency informed the FAA they no longer have a requirement for this area; therefore, the airspace is being returned to the National Airspace System (NAS).

DATES: Effective date: 0901 UTC, April 30, 2015.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

Restricted area R-2936, West Palm Beach, FL, was established to contain test firings of components for the main engines of the Space Shuttle (55 FR 5981) May 3, 1990. During test firings, hydrogen gas was released through an exhaust stack generating significant turbulence and high air temperatures that could be hazardous to aircraft up to 10,000 feet. The restricted area using agency informed the FAA there are no plans for further hazardous testing in the area. Therefore, the FAA is taking this action to remove restricted area R-2936.

The Rule

This action amends Title 14 Code of Federal Regulations (14 CFR) part 73 by removing restricted area R-2936, West Palm Beach, FL. The using agency notified the FAA that they no longer require the restricted area for hazardous activities.

Because this action removes restricted airspace no longer needed, and returns the airspace to the NAS, I find that notice and public procedure under 5 U.S.C. 553(b) is unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it returns restricted airspace that is no longer needed for its designated purpose to the NAS in the West Palm Beach, FL area.

Environmental Review

The FAA has determined that this action qualifies for categorical exclusion under the National Environmental Policy Act in accordance with FAA Order 1050.1E, Environmental Impacts: Policies and Procedures, paragraph 311c. This action returns restricted airspace to the National Airspace System. It is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. Section 73.29 is amended as follows:

* * * * *

R-2936 West Palm Beach, FL [Removed]

Issued in Washington, DC, on February 19, 2015.
Gary A. Norek,
Manager, Airspace Policy and Regulations Group.

[FR Doc. 2015-04296 Filed 2-27-15; 8:45 am]

BILLING CODE 4910-13-P